DEPARTMENT OF COMMERCE

National Oceanic and Atmospheric Administration

RIN 0648-XG275

Mid-Atlantic Fishery Management Council (MAFMC); Public Meeting

AGENCY: National Marine Fisheries Service (NMFS), National Oceanic and Atmospheric Administration (NOAA), Commerce.

ACTION: Notice; public meeting.

SUMMARY: The Working Group (WG) of the Northeast Trawl Advisory Panel (NTAP) and NTAP as a whole of the Mid-Atlantic Fishery Management Council will hold a meeting.

DATES: The meeting will be held on Tuesday, June 19, beginning at 9 a.m. and conclude by 5 p.m. For agenda details, see SUPPLEMENTARY INFORMATION.

ADDRESSES: The meeting will be held at the Hilton Garden Inn Boston Logan Airport located on 100 Boardman St., Boston, MA 02128.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of this WG meeting is to: (1) Review options and recommend preferred research plan for re-obligating industry vessel sea days funds (Nobska), (2) develop workplan for FY18-20, (3) define criteria for Bigelow trawl gear performance, and (4) describe potential flume tank experiments. The purpose of the NTAP as a whole meeting is to: (1) Review updates on the revised NTAP charter and Bigelow operations, (2) review, adopt or revise NTAP WG recommendations from last meeting, (3) review the status of summer flounder catchability and gear performance analyses, (4) review a briefing on the Bigelow/Albatross time series, (5) adopt a regular meeting schedule for full NTAP and WG, and (6) cover other business.

Dated: May 30, 2018.
Tracey L. Thompson,
Acting Deputy Director, Office of Sustainable Fisheries, National Marine Fisheries Service.

[FR Doc. 2018-11894 Filed 6-1-18; 8:45 am]

BILLING CODE 3510-22-P